DEPARTMENT OF TRANSPORTATION

Federal Aviation Administration

[DOT-OST-2019-XXXX]

Research, Engineering, and Development Advisory Committee (REDAC); Notice of Public Meeting

AGENCY: Federal Aviation Administration, Department of Transportation.

ACTION: Notice of public meeting.

SUMMARY: This notice announces a meeting of the Research, Engineering, and Development Advisory Committee (REDAC).

DATES: The meeting will be held on July 9, 2020, from 9:00 a.m.-4:00 p.m. EDT.

Requests for accommodations to a disability must be received by June 25, 2020. Individuals requesting to speak during the meeting must submit a written copy of their remarks to DOT by June 25, 2020. Requests to submit written materials to be reviewed during the meeting must be received no later than June 25, 2020.

ADDRESSES: The meeting will be held virtually. Virtual attendance information will be provided upon registration. A detailed agenda will be available on the REDAC internet website at http://www.faa.gov/go/redac at least one week before the meeting, along with copies of the meeting minutes after the meeting.

FOR FURTHER INFORMATION CONTACT: Chinita Roundtree-Coleman, REDAC PM/Lead, FAA/U.S. Department of Transportation, at chinita.roundtree-coleman@faa.gov or (609) 485-7149. Any committee related request should be sent to the person listed in this section.

SUPPLEMENTARY INFORMATION:

I. Background

The Research, Engineering, and Development Advisory Committee was created under the Federal Advisory Committee Act (FACA), in accordance with Public Law 100-591 (1988) and Public Law 101-508 (1990) to provide advice and recommendations to the FAA Administrator in support of the Agency's Research and Development (R&D) portfolio.

II. Agenda

At the meeting, the agenda will cover the following topics:

• FAA Research and Development Plan.

• Emergence of new entrant vehicles and operations into the National Airspace System.

III. Public Participation

The US Department of Transportation is committed to providing equal access to this meeting for all participants. If you need alternative formats or services because of a disability, such as sign language, interpretation, or other ancillary aids, please contact the person listed in the FOR FURTHER INFORMATION CONTACT section.

There will be 45 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA may conduct a lottery to determine the speakers. Speakers are requested to submit a written copy of their prepared remarks for inclusion in the meeting records and for circulation to REDAC members before the deadline listed in the DATES section. All prepared remarks submitted on time will be accepted and considered as part of the meeting's record. Any member of the public may present a written statement to the committee at any time.

Issued in Washington, DC, this 17 day of June 2020.
Chinita Roundtree-Coleman,
REDAC PM/Lead, Federal Aviation Administration.

[FR Doc. 2020-13556 Filed 6-23-20; 8:45 am]

BILLING CODE 4910-9X-P